INSTITUTE OF PEACE

Notice of Meeting; Sunshine Act

AGENCY: Institute of Peace.

DATE AND TIME: Friday, September 17, 2004. 9:15 a.m.-3:30 p.m.

LOCATION: 1200 17th Street, NW., Suite 200, Washington, DC 20036-3011.

STATUS: Open Session—Portions may be closed pursuant to subsection (c) of section 552(b) of title 5, United States Code, as provided in subsection 1706(h)(3) of the United States Institute of Peace Act, Public Law 98-525.

AGENDA: September 2004 Board Meeting; Approval of Minutes of the One Hundred Fifteenth Meeting (June 16-18, 2004) of the Board of Directors; Chairman's Report; President's Report; Committee Reports; Fiscal Years 2005 and 2006 Budget Review; Organizational Review; Approval of 2004 Unsolicited and Solicited Grant; Other General Issues.

CONTACT: Tessie Higgs, Executive Office, Telephone: (202) 429-3836.

Dated: August 18, 2004.
Harriet Hentges,
Executive Vice President, United States Institute of Peace.

[FR Doc. 04-19876 Filed 8-26-04; 3:12 pm]

BILLING CODE 6820-AR-M